DEPARTMENT OF TRANSPORTATION

Federal Aviation Administration

Receipt of Update to Noise Compatibility Program and Request for Review; Austin-Bergstrom International Airport Austin, TX

AGENCY: Federal Aviation Administration, DOT.

ACTION: Notice.

SUMMARY: The Federal Aviation Administration (FAA) announces that it is reviewing a proposed update to the existing noise compatibility program that was submitted for Austin-Bergstrom International Airport under the provisions of title 49, U.S.C. Chapter 475 (hereinafter referred to as “Title 49”) and 14 CFR Part 150 by City of Austin, Texas. This program was submitted subsequent to a determination by FAA that associated noise exposure maps submitted under 14 CFR part 150 for Austin-Bergstrom International Airport were in compliance with applicable requirements effective on April 29, 2000. The original noise compatibility program was approved on November 7, 2000. The proposed update to the noise compatibility program will be approved or disapproved on or before February 11, 2004.

EFFECTIVE DATE: The effective date of the start of FAA's review of the noise compatibility program is August 15, 2003. The public comment period ends October 13, 2003.

FOR FURTHER INFORMATION CONTACT: Nan L. Terry, Department of Transportation, Federal Aviation Administration, Fort Worth, Texas, 76193-0652, (817) 222-5607. Comments on the proposed update to the noise compatibility program should also be submitted to the above office.

SUPPLEMENTARY INFORMATION: This notice announces that the FAA is reviewing a proposed update to the existing noise compatibility program for Austin-Bergstrom International Airport, which will be approved or disapproved on or before February 11, 2004. This notice also announces the availability of this program for public review and comment.

Under Title 49, an airport operator may submit to the FAA noise exposure maps, which meet applicable regulations, and which depict noncompatible land uses as of the date of submission of such maps, a description of projected aircraft operations, and the way sin which such operations will affect such maps. Title 49 requires such maps to be developed in consultation with interested and affected parties in the local community, government agencies, and persons using the airport.

An airport operator who has submitted noise exposure maps that are found by the FAA to be in compliance with the requirements of 14 CFR Part 150, promulgated pursuant to Title 49, may submit a noise compatibility program for FAA approval which sets forth the measures the operator has taken or proposes for the reduction of existing noncompatible uses and for the prevention of the introduction of additional noncompatible uses.

On April 20, 1999, FAA published its approval noise exposure maps for the Austin-Bergstrom International Airport in the Federal Register. On May 25, 2000, the FAA published its approval of a final 2004 noise exposure map for the Austin-Bergstrom International Airport in the Federal Register. The FAA approved the original noise compatibility program on November 7, 2000 produced during Austin-Bergstrom International Airport, Austin, Texas Part 150 Noise Compatibility Study.

The FAA has formally received an update to the noise compatibility program for Austin-Bergstrom International Airport. Preliminary review of the submitted material indicates that it conforms to the requirements for the submittal of noise compatibility programs, but that further review will be necessary prior to approval or disapproval of the program. The formal review period, limited by law to a maximum of 180 days, will be completed on or before February 11, 2004.

The FAA's detailed evaluation will be conducted under the provisions of 14 CFR Part 150, section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed update to the existing program with specific reference to these factors. All comments, other than those properly addressed to local land use authorities, will be considered by the FAA to the extent practicable. Copies of the noise exposure map, the FAA 's evaluation of the map, and the proposed noise compatibility program are available for examination at the following locations:

Federal Aviation Administration, Airports Division, 2601 Meacham Boulevard, Fort Worth, Texas 76137.

Austin-Bergstrom International Airport, City of Austin, Aviation Department, 3600 Presidential Blvd., Austin, Texas 78719.

Questions may be directed to the individual named above under the heading FOR FURTHER INFORMATION CONTACT.

Issued in Fort Worth, Texas, August 15, 2003.
Naomi L. Saunders,
Manager, Airports Division.

[FR Doc. 03-21771 Filed 8-25-03; 8:45 am]

BILLING CODE 4910-13-M